DEPARTMENT OF THE INTERIOR

Bureau of Indian Affairs

Announcement of Fund Availability, Competitive Grant Program

AGENCY: Bureau of Indian Affairs, Interior.

ACTION: Notice of funding availability and solicitation of applications.

SUMMARY: This notice informs Indian tribes that grant funds are available through a Competitive Grant Program and that the Office of Indian Energy and Economic Development (IEED) is soliciting applications from eligible interested entities. To encourage greater tribal participation in this initiative, IEED is offering grants to assist federally-recognized Indian tribes in preparing tribal plans designed for participation in Public Law 102-477.

DATES: Applications must be received on or before July 7, 2006. Applications received after this date will not be considered.

ADDRESSES: Mail or hand deliver applications to: Office of Indian Energy and Economic Development, Attention: Lynn Forcia, Chief, Division of Workforce Development, Mail Stop 18-SIB, 1951 Constitution Avenue, NW., Washington, DC 20240. Potential applicants should fax a request for a copy of the guidance to (202) 208-6991.

FOR FURTHER INFORMATION CONTACT: Lynn Forcia, (202) 219-5270 or Jody Garrison, (202) 208-2685.

SUPPLEMENTARY INFORMATION: This solicitation consists of six parts.

• Part I provides the funding description and background information.

• Part II describes the selection criteria.

• Part III provides the form and content of application submission.

• Part IV provides application review information.

• Part V provides information for selection and non-selection of applicants for award.

• Part VI describes the authority which grants this solicitation for applications for this grant.

I. Background

Congress enacted Public Law 102-477 (477) on October 23, 1992, with full tribal participation, and 477 was implemented on January 1, 1994. The 477 initiative is a program that enables tribes to consolidate Federal funds and devote up to 25 percent of their total resources for economic development projects. The 477 Tribal Work Group, composed of existing grantees, has provided training for tribes wishing to participate in this program.

Independent studies, congressional testimony, the Office of Management and Budget's PART review, and 477 participating tribes have all recognized 477 as an innovative and successful program of benefit to tribes. However, the program has grown slowly over the past 12 years. Many tribes not a part of 477 have lacked the opportunity to determine whether their participation in this program would be suitable for their communities.

To encourage greater tribal participation in this highly successful initiative, the Office of Indian Energy and Economic Development (IEED) is offering grants to assist tribes to develop 477 plans. A limited number of tribal grantees, chosen on a competitive basis, will be provided funding of up to $25,000 to develop a 477 plan that will meet statutory requirements.

II. Selection Criteria

IEED will select applicants for the grant funding based upon the following criteria:

• 40 percent—the tribe's demonstration that it lacks resources necessary to prepare a plan;

• 30 percent—the extent to which the tribal staff responsible for implementation of the program will have been involved in the preparation of a plan; and

• 30 percent—the extent to which job creation and/or job accessibility activities are planned.

In order to be considered eligible for consideration, tribes must document successful audits for the past 2 years.

III. Form and Content of Application Submission

All applications must contain the following information or documentation:

(1) Standard Form 424, Application for Financial Assistance.

(2) Budget not to exceed $25,000, which identifies proposed expenses (1-2 pages).

(3) Narrative (not to exceed 5 pages) which—

(a) Identifies the Federal programs the tribe intends to incorporate into the 477 plan, with estimated funding levels;

(b) Explains the tribe's need for financial assistance to prepare a plan;

(c) States why the tribe intends to participate in Public Law 102-477 and the expected measurable outcome; and,

(d) Provides the contact person's name, address, and fax and telephone numbers.

(4) One copy of the single audit for the past 2 years, if tribe is required to complete audits.

IV. Application Review Information

Within 30 days of receiving the application, IEED will acknowledge receipt by letter to the applicant. The application will be reviewed for completeness to determine if it contains all of the items required. If the application is incomplete or ineligible, it will be returned to the applicant with an explanation from the Division of Workforce Development.

A review team will evaluate all applications and make overall recommendations based on factors such as eligibility, application completeness, and conformity to application requirements. They will score the applications based on criteria under the heading “Selection Criteria.” All applications that are complete and eligible will be ranked competitively based on the criteria under the heading “Form and Content of Application Submission.”

V. Notification of Selection/Non-Selection

Those tribes selected to participate will be notified by letter. Tribes will be notified within 60 days of the application deadline. Upon notification, each tribe selected will be awarded a grant.

The Chief, Division of Workforce Development will notify each tribe of non-selection.

VI. Authority

This notice is published in accordance with Public Law 102-477 and is in the exercise of authority delegated to the Principal Deputy Assistant Secretary—Indian Affairs by 209 DM 8.

Dated: May 22, 2006.
Michael D. Olsen,
Acting Principal Deputy Assistant Secretary—Indian Affairs.

[FR Doc. E6-8864 Filed 6-6-06; 8:45 am]

BILLING CODE 4310-4M-P